DEPARTMENT OF HOMELAND SECURITY

Coast Guard

46 CFR Parts 1, 5, 10, 12 and 13

[USCG-2006-25535]

RIN 1625-ZA09

Mariner Licensing and Documentation Program Restructuring and Centralization

AGENCY: Coast Guard, DHS.

ACTION: Technical amendment.

SUMMARY: This technical amendment authorizes the Commanding Officer, National Maritime Center, to perform certain mariner credentialing functions in addition to Officers in Charge, Marine Inspection, who currently perform those functions. At the end of a transitional period, most credentialing functions will be consolidated at a centralized location. The amendment also makes technical changes to the mariner credentialing appellate process. This rule is organizational in nature and will have no substantive effect on the regulated public. The amendment also will have no effect on any other Coast Guard regulatory projects or policy initiatives.

DATES: These changes are effective September 20, 2006.

FOR FURTHER INFORMATION CONTACT: If you have questions on this rule, call Gerald Miante, Project Manager, Maritime Personnel Qualifications Division (G-PSO-1), U.S. Coast Guard, telephone 202-372-1407. If you have questions on viewing the docket, call Ms. Renee V. Wright, Program Manager, Docket Operations, telephone 202-493-0402.

SUPPLEMENTARY INFORMATION:

Regulatory History

We did not publish a notice of proposed rulemaking (NPRM) for this amendment. Under 5 U.S.C. 553(b)(A), the Coast Guard finds that this technical amendment is exempt from notice and comment rulemaking requirements because the amendment only makes non-substantive changes involving internal rules of agency organization, procedure, and practice. These changes will have no substantive effect on the public; therefore, it is unnecessary and impractical to publish an NPRM.

Background and Purpose

Mariner credentialing functions are currently performed at the Regional Examination Centers (RECs). The Coast Guard is authorizing the Commanding Officer, National Maritime Center (NMC) to perform these functions in addition to the Officers in Charge, Marine Inspection (OCMIs). This is the first step in an incremental restructuring and centralization plan that will eventually streamline the RECs and bring them under the authority of the NMC. During implementation of this plan, some REC credentialing functions will be gradually transferred to the NMC, and some OCMIs will continue to have authority to issue credentials.

When the restructuring and centralization is complete, the Coast Guard will notify the public in the Federal Register that the NMC will make decisions on applications and authorize the issuance of mariner credentials. The NMC will also be the central location for mariner records and a processing point for associated fees. RECs will remain open and continue to assist mariners to complete applications, take fingerprints, verify mariners' citizenship and identities, administer examinations, administer oaths, and conduct oversight for approved courses.

These future changes are designed to improve service to mariners and address national security concerns. The restructuring and centralization will: (1) Enhance security by implementing consolidated system controls for the credentialing process; (2) improve the consistency of information, procedures, and mariner evaluations; and (3) improve program efficiencies and customer service through economies of scale and increased use of technology.

Discussion of the Amendment

Title 46 of the Code of Federal Regulations (46 CFR) is being amended to authorize the Commanding Officer of the NMC, in addition to the OCMIs, to perform mariner credentialing functions. The NMC will begin phasing in the transfer of these functions from the OCMIs when facilities for the new centralized NMC become operational. Additionally, this amendment establishes a single final administrative appellate authority for all appeals concerning mariner credentialing. In § 12.02-3, the term “merchant mariner's documents” has been substituted for “certificates of identification, certificates of service, certificates of efficiency, and continuous discharge books” because the Coast Guard no longer issues the latter documents.

These technical and organizational changes do not change any substantive requirements of existing regulations. Further, this amendment will have no effect on any Coast Guard regulatory projects or policy initiatives, including Merchant Marine Credentials, Docket No. USCG-2006-24371, Transportation Worker Identification Credential, Docket Nos. USCG-2006-24196 and TSA-2006-24191, Validation of Merchant Mariners' Vital Information and Issuance of Coast Guard Merchant Mariner's Documents, Docket No. USCG-2003-14500, and Validation of Merchant Mariners' Vital Information and Issuance of Coast Guard Merchant Mariners' Licenses and Certificates of Registry, Docket No. USCG-2004-17455.

Regulatory Evaluation

This amendment is not a significant regulatory action under section 3(f) of Executive Order 12866, Regulatory Planning and Review, and does not require an assessment of potential costs and benefits under section 6(a)(3) of that Order. The Office of Management and Budget (OMB) has not reviewed it under that Order. We expect the economic impact of this rule to be so minimal that a full Regulatory evaluation is necessary. Because this amendment only authorizes the NMC to perform mariner credentialing functions and reorganizes the administrative appellate procedure, it will not impose any costs on the public.

Small Entities

Under the Regulatory Flexibility Act (5 U.S.C. 601-612), we have considered whether this amendment would have a significant economic impact on a substantial number of small entities. The term “small entities” comprises small businesses, not-for-profit organizations that are independently owned and operated and are not dominant in their fields, and governmental jurisdictions with populations of less than 50,000.

It is not expected that this amendment will have a significant economic impact on any small entities. Therefore, the Coast Guard certifies under 5 U.S.C. 605(b) that this technical amendment will not have a significant economic impact on a substantial number of small entities.

Collection of Information

This amendment calls for no new collection of information under the Paperwork Reduction Act of 1995 (44 U.S.C. 3501-3520).

Federalism

A rule has implications for federalism under Executive Order 13132, Federalism, if it has a substantial direct effect on State or local governments and would either preempt State law or impose a substantial direct cost of compliance on them. We have analyzed this amendment under that Order and have determined that it does not have implications for federalism.

Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 or more in any one year. Though this amendment will not result in such an expenditure, we do discuss the effects of this amendment elsewhere in this preamble.

Taking of Private Property

This amendment will not affect a taking of private property or otherwise have taking implications under Executive Order 12630, Governmental Actions and Interference with Constitutionally Protected Property Rights.

Civil Justice Reform

This rule meets applicable standards in sections 3(a) and 3(b)(2) of Executive Order 12988, Civil Justice Reform, to minimize litigation, eliminate ambiguity, and reduce burden.

Protection of Children

We have analyzed this amendment under Executive Order 13045, Protection of Children from Environmental Health Risks and Safety Risks. This amendment is not an economically significant rule and does not concern an environmental risk to health or safety that may disproportionately affect children.

Indian Tribal Governments

This amendment does not have tribal implications under Executive Order 13175, Consultation and Coordination with Indian Tribal Governments, because it does not have a substantial direct effect on one or more Indian tribes, on the relationship between the Federal Government and Indian tribes, or on the distribution of power and responsibilities between the Federal Government and Indian tribes.

Energy Effects

We have analyzed this rule under Executive Order 13211, Actions Concerning Regulations That Significantly Affect Energy Supply, Distribution, or Use. We have determined that it is not a “significant energy action” under that Order because it is not a “significant regulatory action” under Executive Order 12866 and is not likely to have a significant adverse effect on the supply, distribution, or use of energy. The Administrator of the Office of Information and Regulatory Affairs has not designated it as a significant energy action. Therefore, it does not require a Statement of Energy Effects under Executive Order 13211.

Technical Standards

The National Technology Transfer and Advancement Act (NTTAA) (15 U.S.C. 272 note) directs agencies to use voluntary consensus standards in their regulatory activities unless the agency provides Congress, through the Office of Management and Budget, with an explanation of why using these standards would be inconsistent with applicable law or otherwise impractical. Voluntary consensus standards are technical standards (e.g., specifications of materials, performance, design, or operation; test methods; sampling procedures; and related management systems practices) that are developed or adopted by voluntary consensus standards bodies.

This amendment does not use technical standards. Therefore, we did not consider the use of voluntary consensus standards.

Environment

We have analyzed this rule under Commandant Instruction M16475.lD, which guides the Coast Guard in complying with the National Environmental Policy Act of 1969 (NEPA) (42 U.S.C. 4321-4370f), and have concluded that there are no factors in this case that would limit the use of a categorical exclusion under section 2.B.2 of the Instruction. Therefore, this rule is categorically excluded, under figure 2-1, paragraph (34)(b), of the Instruction from further environmental documentation. Paragraph (34)(b) excludes regulatory actions concerning internal agency functions or organization, such as delegation of authority. Under figure 2-1, paragraph (34)(b), of the Instruction, an Environmental Analysis Check List and a Categorical Exclusion Determination are not required for this technical amendment.

List of Subjects

46 CFR Part 1

Administrative practice and procedure, Organization and functions (Government agencies), Reporting and recordkeeping requirements.

46 CFR Part 5

Administrative practice and procedure, Alcohol abuse, Drug abuse, Investigations, Seamen.

46 CFR Part 10

Penalties, Reporting and recordkeeping requirements, Schools, Seamen.

46 CFR Part 12

Penalties, Reporting and recordkeeping requirements, Seamen.

46 CFR Part 13

Cargo vessels, Reporting and recordkeeping requirements, Seamen.

For the reasons set forth in the preamble, the Coast Guard amends 46 CFR parts 1, 5, 10, 12 and 13 as follows:

PART 1—ORGANIZATION, GENERAL COURSE AND METHODS GOVERNING MARINE SAFETY FUNCTIONS

1. The authority citation for 46 CFR part 1 continues to read as follows:

Authority: 5 U.S.C. 552; 14 U.S.C. 633; 46 U.S.C. 7701; 46 U.S.C. Chapter 93; Pub. L. 107-296, 116 Stat. 2135; Department of Homeland Security Delegation No. 0170.1; § 1.01-35 also issued under the authority of 44 U.S.C. 3507.

2. In § 1.01-15, revise the section heading, remove the NOTE following paragraph (b), re-designate paragraph (c) as paragraph (d), revise newly redesignated paragraph (d), and add a new paragraph (c) to read as follows:

§ 1.01-15 Organization; Districts; National Maritime Center.

* * * * *

(c) The Commanding Officer of the National Maritime Center has been designated and delegated to give direction to Coast Guard activities relating to marine safety functions consisting of the licensing, credentialing, certificating, shipment and discharge of seamen; referring to the processing of Regional Examination Center (REC) or cognizant OCMI violations of law, negligence, misconduct, unskillfulness, incompetence or misbehavior of persons applying for or holding merchant mariner's documents, licenses, certificates or credentials issued by the Coast Guard; suspension or withdrawal of course approvals; and recommending possible suspension or revocation under 46 U.S.C. Chapter 77 of licenses, credentials, certificates and merchant mariner's documents. Applicants for merchant mariner's documents, licenses, certificates or credentials may apply to the Coast Guard National Maritime Center or any of the Regional Examination Centers. Applicants may contact the National Maritime Center at 4200 Wilson Boulevard, Suite 630, Arlington, Virginia 22203-1804, or by telephone at 202-493-1002. A list of Regional Examination Locations is available through the Coast Guard Web site at http://www.uscg.mil.

(d) For descriptions of Coast Guard districts and marine inspection zones, see 33 CFR part 3.

3. Revise § 1.03-15(h)(3) and (h)(4) to read as follows:

§ 1.03-15 General.

* * * * *

(h) * * *

(3) Commandant (G-PC), for all appeals involving suspension or withdrawal of course approvals, and all marine personnel issues that are appealed from the National Maritime Center or from an OCMI through a District Commander;

(4) Commandant (G-PSE), for appeals involving the recognition of a classification society; or

* * * * *

4. Revise § 1.03-45 to read as follows:

§ 1.03-45 Appeals from decisions or actions of the National Maritime Center.

Any person directly affected by a decision or action of an officer or employee of the National Maritime Center (NMC) involving any of the marine safety functions listed in § 1.01-15(c) of this subpart may, after requesting reconsideration of the decision or action by the NMC, make a formal appeal of that decision or action, via the NMC, to the Director of Inspection and Compliance, Commandant (G-PC), in accordance with the procedures contained in § 1.03-15 of this subpart. The decision of the Director of Inspection and Compliance, Commandant (G-PC), on such an appeal will constitute final agency action.

PART 5—MARINE INVESTIGATION REGULATIONS—PERSONNEL ACTION

5. The authority citation for 46 CFR part 5 continues to read as follows:

Authority: 46 U.S.C. 2103, 7101, 7301, 7701; Department of Homeland Security Delegation No. 0170.1.

6. In Subpart B—Definitions, add new 46 CFR 5.11 to read as follows:

§ 5.11 Officer in Charge, Marine Inspection.

Officer in Charge, Marine Inspection (OCMI) for the purposes of part 5 means the officer or individual so designated at one of the Regional Examination Centers, or any person so designated by the Commandant.

7. Revise 46 CFR 5.15 to read as follows:

§ 5.15 Investigating Officer.

An investigating officer is a Coast Guard official designated by the Commandant, a District Commander, or the Officer in Charge, Marine Inspection, for the purpose of conducting investigations of marine casualties or matters pertaining to the conduct of persons applying for or holding merchant mariner's documents, licenses, certificates or credentials issued by the Coast Guard. An Officer in Charge, Marine Inspection is an investigating officer without further designation.

PART 10—LICENSING OF MARITIME PERSONNEL

8. The authority citation for 46 CFR part 10 continues to read as follows:

Authority: 14 U.S.C. 633; 31 U.S.C. 9701; 46 U.S.C. 2101, 2103, and 2110; 46 U.S.C. chapter 71; 46 U.S.C. 7502, 7505, 7701, and 8906; Executive Order 10173; Department of Homeland Security Delegation No. 0170.1. Section 10.107 is also issued under the authority of 44 U.S.C. 3507.

9. In 46 CFR 10.103 revise the definition of Officer in Charge, Marine Inspection (OCMI) to read as follows:

§ 10.103 Definitions of terms used in this part.

* * * * *

Officer in Charge, Marine Inspection (OCMI) for the purposes of part 10 means the officer or individual so designated at one of the Regional Examination Centers, or any person so designated by the Commandant.

* * * * *

11. Revise 46 CFR 10.105(a) to read as follows:

§ 10.105 Applications.

(a) Applicants for merchant mariner's documents, licenses, certificates or credentials may apply to the Coast Guard National Maritime Center or any of the Regional Examination Centers. Applicants may contact the National Maritime Center at 4200 Wilson Boulevard, Suite 630, Arlington, Virginia 22203-1804, or by telephone at 202-493-1002. A list of Regional Examination Locations is available through the Coast Guard Web site at http://www.uscg.mil.

* * * * *

PART 12—CERTIFICATION OF SEAMEN

12. The authority citation for part 12 continues to read as follows:

Authority: 31 U.S.C. 9701; 46 U.S.C. 2101, 2103, 2110, 7301, 7302, 7503, 7505, 7701; Department of Homeland Security Delegation No. 0170.1.

13. Amend 46 CFR 12.01-6 to add, in alphabetical order, the following definition:

§ 12.01-6 Definitions of terms used in this part.

* * * * *

Officer in Charge, Marine Inspection (OCMI) for the purposes of part 12 means the officer or individual so designated at one of the Regional Examination Centers, or any person so designated by the Commandant.

* * * * *

14. Revise 46 CFR 12.01-7 to read as follows:

§ 12.01-7 Where to apply.

Applicants for licenses or certification may apply to the Coast Guard National Maritime Center or any of the Regional Examination Centers. Applicants may contact the National Maritime Center at 4200 Wilson Boulevard, Suite 630, Arlington, Virginia 22203-1804, or by telephone at 202-493-1002. A list of Regional Examination Locations is available through the Coast Guard Web site at http://www.uscg.mil.

15. Revise § 12.02-3(a) to read as follows:

§ 12.02-3 Where documents are issued.

(a) Merchant mariner's documents may be issued to qualified applicants at the National Maritime Center or at any Regional Examination Center during usual business hours.

* * * * *

PART 13—CERTIFICATION OF TANKERMEN

16. The authority citation for part 13 continues to read as follows:

Authority: 46 U.S.C. 3703, 7317, 8105, 8703, 9102; Department of Homeland Security Delegation No. 0170.1.

17. In 46 CFR 13.103, revise the definition of Officer in Charge, Marine Inspection (OCMI) to read as follows:

§ 13.103 Definitions.

* * * * *

Officer in Charge, Marine Inspection (OCMI) for the purposes of part 13 means the officer or individual so designated at one of the Regional Examination Centers, or any person so designated by the Commandant.

* * * * *

Dated: August 11, 2006.
Steve Venckus,
Chief, Office of Regulations and Administrative Law, Office of the Judge Advocate General, U.S. Coast Guard.

[FR Doc. E6-13532 Filed 8-18-06; 8:45 am]

BILLING CODE 4910-15-P